ENVIRONMENTAL PROTECTION AGENCY

[FRL-7242-5]

Agency Information Collection Activities: Proposed Collection; Comment Request; Performance Evaluation Studies of Water and Wastewater Laboratories

AGENCY: Environmental Protection Agency (EPA).

ACTION: Notice.

SUMMARY: In compliance with the Paperwork Reduction Act (44 U.S.C. 3501 et seq.), this notice announces that EPA is planning to submit for renewal the following continuing Information Collection Request (ICR) to the Office of Management and Budget (OMB): Performance Evaluation Studies of Water and Wastewater Laboratories, EPA ICR No. 0234.08, OMB Control No. 2080-0021. This ICR currently expires on October 31, 2002. Before submitting the ICR to OMB for review and approval, EPA is soliciting comments on specific aspects of the proposed information collection as described below.

DATES: Comments must be transmitted on or before September 6, 2002.

ADDRESSES: Please send comments, referencing EPA ICR No. 0234.08 and OMB Control No. 2080-0021, to the following addresses: Susan Auby, U.S. Environmental Protection Agency, Collection Strategies Division (Mail Code 2822T), 1200 Pennsylvania Avenue NW, Washington, DC 20460; and to the Office of Information and Regulatory Affairs, Office of Management and Budget (OMB), Attention: Desk Officer for EPA, 725 17th Street NW, Washington, DC 20503.

FOR FURTHER INFORMATION CONTACT: For a copy of the ICR, contact Susan Auby at EPA by phone, at (202) 566-1672, by e-mail, at Auby.Susan@epamail.epa.gov, or download off the Internet at http://www.epa.gov/icr and refer to EPA ICR No. 0234.08. For technical questions about the ICR contact Ed Glick, EPA, Technical Support Center, 26 West Martin Luther King Drive, (MS-140), Cincinnati, Ohio 45268, by fax number, (513) 569-7191, or e-mail, at glick.ed@epa.gov.

SUPPLEMENTARY INFORMATION: Affected entities: Entities potentially affected by this action are those laboratories that participate in Performance Evaluation (PE) studies, the private sector companies who offer these studies, and those who use the data generated from their participation to determine the certification status of laboratories involved in producing environmental monitoring measurements in water. This includes EPA and state certifying authorities for the Drinking Water, Wastewater, and the National Pollution Discharge Elimination System (NPDES) programs.

Title: Performance Evaluation Studies of Water and Wastewater Laboratories (OMB Control No. 2080-0021; EPA ICR No. 0234.08.). Expiring 10/31/2002.

Abstract: Performance Evaluation (PE) studies provide an objective demonstration that participating laboratories are capable of producing valid data for monitored pollutants. Participation in the Water Pollution (WP) studies that relate to wastewater analyses and Water Supply (WS) studies that relate to drinking water analyses are only mandated by the USEPA for those laboratories that receive federal funds to perform these analyses. However, states that certify laboratories for drinking water and wastewater analyses also often require successful participation in these studies for certification. Participation in the Discharge Monitoring Report-Quality Assurance (DMR-QA) studies is mandatory for those designated wastewater dischargers who are conducting self-monitoring analyses required under a National Pollutant Discharge Elimination System (NPDES) permit. EPA initiated these studies and originally administered them as part of the Agency's mandate to assure the quality of environmental monitoring data. Subsequently, all of these studies have been privatized. Private sector companies manufacture and distribute samples to the participating laboratories who then will submit their analytical results to these PE venders for evaluation. The PE venders then send evaluations of the submitted data to the laboratory and any other designated certifying/accrediting authority. An agency may not conduct or sponsor, and a person is not required to respond to, a collection of information unless it displays a currently valid OMB control number. The OMB control numbers for EPA's regulations are listed in 40 CFR part 9 and 48 CFR chapter 15.

The EPA is soliciting comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who are to respond, including through the use of automated collection techniques or other forms of information technology, e.g., permitting electronic submission of responses.

Burden Statement: The annual public reporting and recordkeeping burden for this collection of information is estimated to average 9.6 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Estimated number of Respondents: 17,168.

Frequency of Response: Annual.

Estimated Total Annual Hour Burden: 165,179 hours.

Estimated Total Annualized Capital, Operating and Maintenance Cost Burden: $9,938,880.

Dated: June 27, 2002.
Gregory Carroll,
Center Chief, Technical Support Center, Office of Ground Water and Drinking Water, Office of Water.

[FR Doc. 02-16993 Filed 7-5-02; 8:45 am]

BILLING CODE 6560-50-P